DEPARTMENT OF COMMERCE

International Trade Administration

[A-428-841, A-570-925, C-570-926]

Sodium Nitrite From Germany and the People's Republic of China: Continuation of Antidumping and Countervailing Duty Orders

AGENCY: Enforcement and Compliance, International Trade Administration, Department of Commerce.

SUMMARY: As a result of the determinations by the Department of Commerce (Commerce) and the International Trade Commission (ITC) that revocation of the antidumping duty (AD) orders on sodium nitrite from Germany and the People's Republic of China (China), and revocation of the countervailing duty (CVD) order on sodium nitrite from China would likely lead to continuation or recurrence of dumping, countervailable subsidies, and material injury to an industry in the United States, Commerce is publishing a notice of continuation of these AD orders and CVD order.

DATES: Applicable August 12, 2019.

FOR FURTHER INFORMATION CONTACT: Ian Hamilton (Germany and China AD) or Leo Ayala (China CVD), AD/CVD Operations, Enforcement and Compliance, International Trade Administration, U.S. Department of Commerce, 1401 Constitution Avenue NW, Washington, DC 20230; telephone: (202) 482-4798 or (202) 482-3945, respectively.

SUPPLEMENTARY INFORMATION:

Background

On August 27, 2008, Commerce published the AD orders on sodium nitrite from Germany and China and the CVD order on sodium nitrite from China.¹ On January 2, 2019, the ITC instituted,² and on February 5, 2019 Commerce initiated,³ the five-year (sunset) reviews of the AD and CVD orders on sodium nitrite from Germany and China, pursuant to section 751(c) of the Tariff Act of 1930, as amended (the Act). As a result of its reviews, Commerce determined that revocation of the CVD Order on sodium nitrite from China would be likely to lead to continuation or recurrence of countervailable subsidies and notified the ITC of the magnitude of the subsidy rates likely to prevail were the order revoked.⁴ Commerce also determined, as a result of its reviews, that revocation of the AD Orders on sodium nitrite from Germany and China would likely lead to continuation or recurrence of dumping and notified the ITC of the magnitude of the margins of dumping likely to prevail were the orders revoked.⁵

¹ See Sodium Nitrite from the Federal Republic of Germany and the People's Republic of China: Antidumping Duty Orders, 73 FR 50593 (August 27, 2008) (AD Orders); see also Sodium Nitrite from the People's Republic of China: Countervailing Duty Order, 73 FR 50595 (August 27, 2008) (CVD Order) (collectively, Orders).

² See Sodium Nitrite from China and Germany; Institution of Five-Year Reviews, 84 FR 6 (January 2, 2019).

³ See Initiation of Five-Year (Sunset) Reviews, 84 FR 1705 (February 5, 2019). The initiation of these reviews was originally scheduled for January 2019 (see Antidumping or Countervailing Duty Order, Finding, or Suspended Investigation; Advance Notification of Sunset Review, 83 FR 62292 (December 3, 2018), as corrected, Advance Notification of Sunset Review; Correction, 83 FR 66244 (December 26, 2018)). However, Commerce's initiation was affected by the partial federal government closure from December 22, 2018, through the resumption of operations on January 29, 2019. Due to the partial federal government closure, Commerce initiated these reviews in February 2019.

⁴ See Sodium Nitrite from the People's Republic of China: Final Results of the Expedited Second Five Year (Sunset) Review of the Countervailing Duty Order, 84 FR 27084 (June 11, 2019), and accompanying Issues and Decision Memorandum (IDM).

⁵ See Sodium Nitrite from Germany and the People's Republic of China: Final Results of the Expedited Second Sunset Reviews of the Antidumping Duty Orders, 84 FR 27086 (June 11, 2019), and accompanying IDM.

On August 5, 2019, the ITC published its determinations, pursuant to sections 751(c) and 752(a) of the Act, that revocation of the Orders would likely lead to continuation or recurrence of material injury to an industry in the United States within a reasonably foreseeable time.⁶

⁶ See Sodium Nitrite from China and Germany (Inv. Nos. 701-TA-453 and 731-TA-1136-1137 (Second Review)), 84 FR 38058 (August 5, 2019); see also Sodium Nitrite from China and Germany (Inv. Nos. 701-TA-453 and 731-TA-1136-1137 (Second Review)), USITC Pub. 4936 (July 2019).

Scope of the Orders

The merchandise subject to these orders is sodium nitrite in any form, at any purity level. In addition, the sodium nitrite covered by these orders may or may not contain an anti-caking agent. Examples of names commonly used to reference sodium nitrite are nitrous acid, sodium salt, anti-rust, diazotizing salts, erinitrit, and filmerine. The chemical composition of sodium nitrite is NaNO2 and it is generally classified under subheading 2834.10.1000 of the Harmonized Tariff Schedule of the United States (HTSUS). The American Chemical Society Chemical Abstract Service (CAS) has assigned the name “sodium nitrite” to sodium nitrite. The CAS registry number is 7632-00-0.

While the HTSUS subheading, CAS registry number, and CAS name are provided for convenience and customs purposes, the written description of the scope of these orders is dispositive.

Continuation of the Orders

As a result of the determinations by Commerce and the ITC that revocation of the Orders would likely lead to a continuation or a recurrence of dumping and countervailable subsidies and of material injury to an industry in the United States, pursuant to section 751(d)(2) of the Act and 19 CFR 351.218(a), Commerce hereby orders the continuation of the Orders. U.S. Customs and Border Protection (CBP) will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and this notice are in accordance with sections 751(c) and (d)(2) of the Act and published in accordance with section 777(i) of the Act, and 19 CFR 351.218(f)(4).

Dated: August 5, 2019.
Jeffrey I. Kessler,
Assistant Secretary for Enforcement and Compliance.

[FR Doc. 2019-17099 Filed 8-9-19; 8:45 am]

BILLING CODE 3510-DS-P